DEPARTMENT OF COMMERCE

International Trade Administration

[A-570-848]

Freshwater Crawfish Tail Meat from the People's Republic of China; Notice of Final Results of Antidumping Duty New Shipper Review, and Final Rescission of Antidumping Duty New Shipper Review

AGENCY: Import Administration, International Trade Administration, U.S. Department of Commerce.

SUMMARY: On August 12, 2002, the Department of Commerce (the Department) published the preliminary results of its new shipper reviews of the antidumping duty order on freshwater crawfish tail meat from the People's Republic of China (PRC) for Shouzhou Huaxiang Foodstuffs Co., Ltd (Shouzhou Huaxiang) and North Supreme Seafood (Zhejiang) Co., Ltd. (North Supreme). See Notice of Preliminary Results of Antidumping Duty New Shipper Reviews: Freshwater Crawfish Tail Meat from the People's Republic of China, 67 FR 52442 (August 12, 2002) (Preliminary Results). These new shipper reviews cover the periods September 1, 2000 through August 31, 2001 for Shouzhou Huaxiang and September 1, 2000 through October 15, 2001 for North Supreme. Based on a request by North Supreme, the POR was extended by 45 days to cover the entries of its shipments into the United States. See Memorandum Re: Extension of the Period of Review in the New Shipper Administrative Review of Freshwater Crawfish Tail Meat From the People's Republic of China, from Holly Hawkins, Analyst, Group III, Office 7, Through Dana Mermelstein, Program Manager, Group III, Office 7, to the File, dated April 29, 2002.

Based on our analysis of the comments received, we are rescinding the new shipper review of North Supreme. Furthermore, we have made changes to the margin calculation for Shouzhou Huaxiang. Therefore, the final results for these companies differ from the preliminary results. The final weighted-average dumping margin for Shouzhou Huaxiang is listed below in the section entitled “Final Results of Review.”

EFFECTIVE DATE: January 10, 2003.

FOR FURTHER INFORMATION CONTACT: Scott Lindsay or Thomas Gilgunn; Office of Antidumping/Countervailing Duty Enforcement VII, Import Administration, International Trade Administration, U.S. Department of Commerce, 14th Street and Constitution Avenue, NW, Washington DC 20230; telephone (202) 482-0780 and (202) 482-4236, respectively.

SUPPLEMENTARY INFORMATION:

Background

The companies covered by these new shipper reviews are North Supreme and Shouzhou Huaxiang. Since the publication of the Preliminary Results, the following events have occurred. On September 11, 2002, we received timely case briefs from the petitioners and from North Supreme and Shouzhou Huaxiang. On September 16, 2002, we received timely rebuttal briefs from petitioner, North Supreme and Shouzhou Huaxiang. On October 10, 2002, the Department conducted a public hearing on the issues presented by interested parties in their case and rebuttal briefs. On November 8, 2002, the Department issued an additional questionnaire requesting information from each respondent concerning the bona fides of their sales in these new shipper reviews. The Department received responses to these questionnaires on November 18, 2002. We received comments on these responses from petitioners (in the form of additional factual information and argument as provided under section 351.301(c)(1) of the Department's regulations) on November 25, 2002, and rebuttal comments from Shouzhou Huaxiang and North Supreme on December 3, 2002, and December 13, 2002. We requested additional information from the respondents on November 25, 2002, and we received responses from the respondents on December 3, 2002. In accordance with section 351.301(c)(1) of the Department's regulations, we received factual information from petitioners on December 10, 2002 that was submitted in order to rebut or clarify new factual information submitted by respondents. We received information from respondents on December 13, 2002, that was also submitted to rebut or clarify new factual information submitted by petitioners in their December 10, 2002 response.

The Department has now completed these reviews in accordance with section 751 (a)(2)(B) of the Act.

Scope of the Antidumping Duty Order

The merchandise covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by the U.S. Customs Service in 2000, and HTS items 0306.19.00.10 and 0306.29.00, which are reserved for fish and crustaceans in general. The HTS subheadings are provided for convenience and Customs purposes only. The written description of the scope of this order is dispositive.

Analysis of Comments Received

All issues raised in the case and rebuttal briefs filed by parties to these new shipper reviews are addressed in the Issues and Decision Memorandum for the Final Rescission of the New Shipper Review of Freshwater Crawfish Tail Meat from the People's Republic of China for North Supreme Seafood and for the Final Results of the New Shipper Review of Freshwater Crawfish Tail Meat from the People's Republic of China for Shouzhou Huaxiang, dated January 2, 2003 (Decision Memo), which is hereby adopted by this notice.

A list of the issues which parties have raised and to which we have responded, all of which are in Decision Memo, is attached to this notice as an appendix. Parties can find a complete discussion of all issues raised in these reviews and the corresponding recommendations in this public memorandum, which is on file in the Central Records Unit, room B-099 of the main Commerce Building. In addition, a complete version of Decision Memo can be accessed directly on the internet at http://ia.ita.doc.gov. The paper copy and electronic version of Decision Memo are identical in content.

Changes Since the Preliminary Results

Based on our analysis of comments received, we have made one change in the margin calculation for Shouzhu Huaxiang. We have removed from our calculation of normal value an offset for the production and sale of crawfish scrap. For a discussion of the issues for each company, refer to the Decision Memo. Since we are rescinding the new shipper review with respect to North Supreme, North Supreme will be subject to the PRC-wide rate.

Valuation of Crawfish Input

For this final decision in these crawfish new shipper reviews, we are using the trade statistics for whole live freshwater crawfish imports into Spain from Portugal, for September 1, 2000, through August 31, 2001, as published by the Agencia Estatal de Administracion Tributaria on its website on October 7, 2002. See Memorandum Re: Final Data for the Surrogate Valuation of Whole Live Freshwater Crawfish, From Adina Teodorescu, Case Analyst, Office of AD/CVD Enforcement VII, Through Maureen Flannery, Program Manager, Office of AD/CVD Enforcement VII, To the File, dated (November 19, 2002).

Rescission of New Shipper Review for North Supreme

In order to sustain a new shipper review, the exporter or producer must show that there was a bona fide first sale to the United States in accordance with 19 CFR 351.214(b)(2)(iv)(C). In these new shipper reviews, we have examined the bona fides of the sales under review for North Supreme and Shouzhou Huaxiang. See Memorandum to Joseph A. Spetrini through Barbara E. Tillman: Freshwater Crawfish Tail Meat from The People's Republic of China: Whether the Sales in the New Shipper Review of North Supreme Are Bona Fide, dated January 2, 2003 (North Supreme Memo).

Because much of the information relied upon in our analysis of whether these North Supreme's sales were bona fide is business proprietary, our full analysis is contained in the North Supreme Memo. For the reasons discussed therein and in the accompanying Issues and Decision Memo, we find that the new shipper sales made by North Supreme were not bona fide. North Supreme's new shipper sales were commercially unreasonable, were atypical of normal business practices, and were at prices and quantities that did not reflect its normal business practices. Therefore it is appropriate to rescind this new shipper review for North Supreme. For Shouzhou Huaxiang, we find that its sales were bona fide. Our reasoning is set forth in the Department's Position on Comment 1 in the Decision Memo.

Final Results of Review

We determine that the following weighted-average margins exist for the period September 1, 2000 through August, 2001 for Shouzhou Huaxiang:

Manufacturer and Exporter | Time Period | Margin (percent)
Shouzhou Huaxiang | 9/1/00-8/31/01 | 15.44

Assessment Rates

The Department will determine, and the Customs Service shall assess, antidumping duties on all appropriate entries. In accordance with 19 CFR 351.212(b)(1), we have calculated an exporter/importer (or customer)-specific assessment rate for merchandise subject to this review for Shouzhou Huaxiang. For North Supreme, the assessment rate will be the cash deposit rate at which the merchandise was entered. The Department will issue appropriate assessment instructions directly to the Customs Service within 15 days of publication of these final results of review. We will direct the Customs Service to assess the resulting assessment rates against the entered customs values for the subject merchandise on each of the importer's/customer's entries during the review period.

Cash Deposit Requirements

Bonding will no longer be permitted to fulfill security requirements for shipments from North Supreme Seafood and Shouzhou Huaxiang of freshwater crawfish tail meat from the PRC entered, or withdrawn from warehouse, for consumption in the United States on or after the publication of this notice in the Federal Register. The following cash deposit requirements will be effective upon publication of these final results for this administrative review for all shipments of freshwater crawfish tail meat from the PRC entered, or withdrawn from warehouse, for consumption on or after the date of publication, as provided by section 751(a)(2)(C) of the Act. For crawfish tail meat produced and exported by Shouzhou Huaxiang, we will establish a per kilogram cash deposit rate which will be equivalent to the company-specific cash deposit established in this review. For crawfish tail meat exported by North Supreme, since we are rescinding the review, we will apply as the cash deposit rate the PRC-wide rate, which is currently 223.01 percent. There are no changes to the rates applicable to any other company under this order.

The Department will disclose calculations performed in connection with these final results of reviews within five days of the date of publication of this notice in accordance with 19 CFR 351.224(b).

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

These new shipper reviews and notice are in accordance with sections 751(a)(2)(B) and 777(i)(1) of the Act.

Dated: January 2, 2003.
Faryar Shirzad,
Assistant Secretary for Import Administration.

APPENDIX

List of Issues

1. The Bona Fides of North Supreme's and Shouzhou Huaxiang's Sales

2. Surrogate Value for Whole, Live Crawfish

3. Shouzhou Huaxiang's Scrap Credit

4. Application of Chain Rates

[FR Doc. 03-525 Filed 1-9-03; 8:45 am]

BILLING CODE 3510-DS-S